DEPARTMENT OF VETERANS AFFAIRS

Privacy Act of 1974; System of Records

AGENCY: Department of Veterans Affairs.

ACTION: Notice to Delete System of Records.

SUMMARY: The Department of Veterans Affairs (VA) is deleting a system of records entitled “Center for Acquisition and Materiel Management Education Online (CAMEO)—VA” (111VA95E), which was established at 66 FR 43043, dated August 16, 2001. The purpose of CAMEO was to collect and maintain training and education data for VA's acquisition and material management work force. The system is now obsolete, and civilian agencies are required, as mandated by OMB, to use the Federal Acquisition Institute Training Application System (FAITAS) as their acquisition workforce system of records. FAITAS is owned and managed by GSA.

DATES: Effective Date: September 9, 2015.

FOR FURTHER INFORMATION CONTACT: Gerard (Jay) Boller, Director, Acquisition Systems Integration, Department of Veterans Affairs, 810 Vermont Avenue NW., Washington, DC 20420, Telephone: (202) 632-6505 (this is not a toll-free number).

Signing Authority

The Secretary of Veterans Affairs, or designee, approved this document and authorized the undersigned to sign and submit the document to the Office of the Federal Register for publication electronically as an official document of the Department of Veterans Affairs. Robert L. Nabors II, Chief of Staff, approved this document on August 24, 2015, for publication.

Dated: September 1, 2015.
Kathleen M. Manwell,
Program Analyst, VA Privacy Service, Office of Privacy and Records Management, Department of Veterans Affairs.

[FR Doc. 2015-22621 Filed 9-8-15; 8:45 am]

BILLING CODE P